DEPARTMENT OF COMMERCE

International Trade Administration

Application for Duty-Free Entry of Scientific Instrument

Pursuant to Section 6(c) of the Educational, Scientific and Cultural Materials Importation Act of 1966 (Public Law 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW, Washington, DC.

Docket Number: 02-017. Applicant: Emory University, Department of Biology, 2006 Rollins Research Center, 1510 Clifton Road, Atlanta, GA 30322. Instrument: Micromanipulator Assembly for Slice Physiology Setup. Manufacturer: Luigs & Neumann, Germany. Intended Use: The instrument is intended to be used to do electrophysiological studies using rat brain slices. The experiments consist of preparing slices of rat brain, putting them under the microscope and inserting microelectrodes into single nerve cells. Once the microelectrode is inserted, a fluorescent dye will be injected into the cell body to visualize fine dendritic processes. The microscope will then be moved to focus on one of the visualized fine processes, and a second electrode can be inserted into the same cell. The main objective of this research is to understand neuronal activity and information processing in the mammalian brain. In particular, nerve cells in brain structures involved in motor control will be studied. In addition, the instrument will be used for educational purposes in the course Bio. 498. Application accepted by Commissioner of Customs: May 14, 2002.

Gerald A. Zerdy,
Statutory Import Programs Staff.

[FR Doc. 02-13566 Filed 5-29-02; 8:45 am]

BILLING CODE 3510-DS-P